DEPARTMENT OF THE TREASURY

Submission for OMB Review; Comment Request

May 20, 2014.

SUMMARY: The Department of the Treasury will submit the following information collection requests to the Office of Management and Budget (OMB) for review and clearance in accordance with the Paperwork Reduction Act of 1995, Public Law 104-13, on or after the date of publication of this notice.

DATES: Comments should be received on or before June 23, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

SUPPLEMENTARY INFORMATION:

Internal Revenue Service (IRS)

OMB Number: 1545-0002.

Type of Review: Revision of a currently approved collection.

Title: Employee Representative's Quarterly Railroad Tax Return.

Form: CT-2.

Abstract: Employee representatives file Form CT-2 quarterly to report compensation on which railroad retirement taxes are due. IRS uses this information to ensure that employee representatives have paid the correct tax. Form CT-2 also transmits the tax payment.

Affected Public: Individuals or Households.

Estimated Burden Hours: 132.

OMB Number: 1545-0200.

Type of Review: Extension without change of a currently approved collection.

Title: Application for Determination for Adopters of Master or Prototype or Volume Submitter Plans.

Form: 5307.

Abstract: This form is filed by employers or plan administrators who have adopted a prototype plan approved by the IRS National Office or a regional prototype plan approved by the IRS District Director to obtain a ruling that the plan adopted is qualified under IRC sections 401(a) and 501(a). It may not be used to request a letter for a multiple employer plan.

Affected Public: Private Sector: Businesses or other for-profits.

Estimated Annual Burden Hours: 5,139,000.

OMB Number: 1545-1083.

Type of Review: Revision of a currently approved collection.

Title: TD 8434—Treatment of Dual Consolidated Losses (INTL-399-88).

Abstract: Section 1503(d) denies use of the losses of one domestic corporation by another affiliated domestic corporation where the loss corporation is also subject to the income tax of another country. The regulation allows an affiliate to make use of the loss if the loss has not been used in the foreign group, to take the loss into income upon future use of the loss in the foreign country. The regulation also requires separate accounting for a dual consolidated loss where the dual resident corporation files a consolidated return.

Affected Public: Private Sector: Businesses or other for-profits.

Estimated Annual Burden Hours: 1,620.

OMB Number: 1545-1205.

Type of Review: Extension without change of a currently approved collection.

Title: Disabled Access Credit.

Form: 8826.

Abstract: Code section 44 allows eligible small businesses to claim a non-refundable income tax credit of 50 percent of the amount of eligible access expenditures for any tax year that exceed $250 but do not exceed $10,250. Form 8826 figures the credit and the tax limit.

Affected Public: Private Sector: Businesses or other for-profits.

Estimated Annual Burden Hours: 89,027.

OMB Number: 1545-1476.

Type of Review: Extension without change of a currently approved collection.

Title: TD 8687—Source of Income From Sales of Inventory and Natural Resources Produced in One Jurisdiction and Sold in Another Jurisdiction (INTL-3-95).

Abstract: The information requested is necessary for the Service to audit taxpayers' returns to ensure taxpayers have properly determined the source of income from sales of inventory produced in one country and sold in another.

Affected Public: Private Sector: Businesses or other for-profits.

Estimated Annual Burden Hours: 1,250.

OMB Number: 1545-1634.

Type of Review: Extension without change of a currently approved collection.

Title: TD 9595—Consolidated Overall Foreign Losses, Separate Limitation Losses, and Overall Domestic Losses (REG-141399-07).

Abstract: These regulations provide rules for the apportionment of a consolidated group's overall domestic loss (CODL), overall foreign loss (COFL) and separate limitation loss (CSLL) accounts to a departing member. The regulations affect consolidated groups of corporations that compute the foreign tax credit limitation or that dispose of property used in a foreign trade or business.

Affected Public: Private Sector: Businesses or other for-profits.

Estimated Annual Burden Hours: 3,000.

OMB Number: 1545-1756.

Type of Review: Extension without change of a currently approved collection.

Title: Revenue Procedure 2001-56, Demonstration Automobile Use.

Abstract: This revenue procedure provides optional simplified methods for determining the value of the use of demonstration automobiles provided to employees by automobile dealerships.

Affected Public: Private Sector: Businesses or other for-profits.

Estimated Annual Burden Hours: 100,000.

OMB Number: 1545-1931.

Type of Review: Extension without change of a currently approved collection.

Title: TD 9237—Designated Roth Contributions to Cash or Deferred Arrangements Under Section 401(k).

Abstract: The regulations provide special rules relating to designed Roth contributions under a section 401(k) plan. Under section 1.401(k)-l(f)(1) or the regulations, one of the requirements that must be met for contributions to be considered designated Roth contribution is that they must be maintained by the plan in a separate account. Section 1.401(k)-l(f)(2) of the regulations provides that, under the separate accounting requirement, contributions and withdrawals of designated Roth contributions must be credited and debited to a designated Roth contribution account maintained for the employee who made the designation and the plan must maintain a record of the employee's investment in the contract employee's designated Roth contribution account.

Affected Public: Private Sector: Businesses or other for-profits.

Estimated Annual Burden Hours: 157,500.

OMB Number: 1545-2024.

Type of Review: Extension without change of a currently approved collection.

Title: Limited Payability Claim Against the United States For Proceeds of an Internal Revenue Refund Check.

Form: 13818.

Abstract: This form is used by taxpayers for completing a claim against the United States for the proceeds of an Internal Revenue refund check.

Affected Public: Individuals or Households.

Estimated Annual Burden Hours: 4,000.

OMB Number: 1545-2190.

Type of Review: Extension without change of a currently approved collection.

Title: IRS Paid Preparer Tax Identification Number (PTIN) Application and Renewal.

Form: W-12.

Abstract: Paid tax return preparers are required to obtain a preparer tax identification number (PTIN) by completing Form W-12, IRS Paid Preparer Tax Identification Number (PTIN) Application and Renewal, and to pay the fee required with the application. A third party will administer the PTIN application process. Most applications will be filled out on-line. Form W-12 will be used to collect the information required by § 1.6109-2 and to collect the information the third party needs to administer the PTIN application process.

Affected Public: Individuals or Households.

Estimated Annual Burden Hours: 1,464,000.

Dawn D. Wolfgang,
Treasury PRA Clearance Officer.

[FR Doc. 2014-12007 Filed 5-22-14; 8:45 am]

BILLING CODE 4830-01-P